DEPARTMENT OF COMMERCE

Foreign-Trade Zones Board

[Docket B-52-2020]

Foreign-Trade Zone 38—Spartanburg County, South Carolina, Application for Production Authority, Teijin Carbon Fibers, Inc. (Polyacrylonitrile-Based Carbon Fiber), Opening of Comment Period on Submission Containing New Evidence

The FTZ Board is inviting public comment on a submission containing new evidence pertaining to the application, as amended, on behalf of Teijin Carbon Fibers, Inc. (TCF), requesting production authority within FTZ 38 in Greenwood, South Carolina. Specifically, the amended application requests removal of the restriction requiring the reexport of foreign status 24,000 filament tow polyacrylonitrile fiber used to produce carbon fiber.

On January 20, 2023, TCF made a submission to the FTZ Board that included new evidence in response to the examiner's preliminary recommendation not to approve the requested production authority. In response to this invitation for public comment, parties may also address argument or evidence presented in the application and in other prior submissions in this proceeding. TCF's submission on the preliminary recommendation, application and other prior submissions may be viewed in the Online FTZ Information System on the FTZ Board's website (accessible via www.trade.gov/ftz).

Public comment is invited from interested parties. Submissions shall be addressed to the FTZ Board's Executive Secretary and sent to: ftz@trade.gov.

The closing period for their receipt is March 1, 2023. Rebuttal comments in response to material submitted during the foregoing period may be submitted during the subsequent 15-day period (to March 16, 2023).

For further information, contact Diane Finver at Diane.Finver@trade.gov.

Dated: January 25, 2023.
Elizabeth Whiteman,
Acting Executive Secretary.

[FR Doc. 2023-01828 Filed 1-27-23; 8:45 am]

BILLING CODE 3510-DS-P